OFFICE OF PERSONNEL MANAGEMENT

Submission for OPM Review; Request for Comments on a Revised Information Collection: (OMB Control No. 3206-0174; Forms RI 20-63, RI 20-116 and RI 20-117)

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for review of a revised information collection. “Survivor Annuity Election for a Spouse” (OMB Control No. 3206-0174; Form RI 20-63), is used by annuitants to elect a reduced annuity with a survivor annuity for their spouse. (OMB Control No. 3206-0174; Form RI 20-116) is a cover letter for RI 20-63 giving information about the cost to elect less than the maximum survivor annuity. This letter is used to supply the information that may have been requested by the annuitant about the cost of electing less than the maximum survivor annuity. (OMB Control No. 3206-0174; RI 20-117) is a cover letter for RI 20-63 giving information about the cost to elect the maximum survivor annuity. This letter may be used to ask for more information.

Booklets RI 20-63A, Information on Electing a Survivor Annuity for Your Spouse, and RI 20-63B, Information on Electing a Survivor Annuity for Your Spouse When You are Providing a Former Spouse Survivor Annuity, are no longer needed.

We estimate 2,400 RI 20-63 forms are returned each year electing survivor annuities and 200 annuitants return the cover letter to ask for information about the cost to elect less than the maximum survivor annuity or to refuse to provide any survivor benefit. We estimate it takes an average of 45 minutes per response to complete the form with a burden of 1,800 hours and 10 minutes to complete the letter, which gives a burden of 34 hours. The total burden for RI 20-63 is 1,834 hours.

For copies of this proposal, contact Cyrus S. Benson on (202) 606-4808, FAX (202) 606-0910 or via E-mail to Cyrus.Benson@opm.gov. Please include a mailing address with your request.

DATES: Comments on this proposal should be received within 30 calendar days from the date of this publication.

ADDRESSES: Send or deliver comments to—

James K. Freiert, (Acting) Deputy Associate Director, Retirement Operations, Retirement and Benefits, U.S. Office of Personnel Management, 1900 E Street, NW., Room 3305, Washington, DC 20415-3500; and

OPM Desk Officer, Office of Information & Regulatory Affairs, Office of Management and Budget, New Executive Office Building, 725 17th Street, NW., Room 10235, Washington, DC 20503.

For information regarding administrative coordination contact:

Cyrus S. Benson, Team Leader, Publications Team, Retirement & Benefits/Resource Management, U.S. Office of Personnel Management, 1900 E Street, NW., Room 4H28, Washington, DC 20415, (202) 606-4808.

U.S. Office of Personnel Management.
John Berry,
Director.

[FR Doc. 2010-19091 Filed 8-3-10; 8:45 am]

BILLING CODE 6325-38-P